NATIONAL AERONAUTICS AND SPACE ADMINISTRATION

[NOTICE: (21-086)]

Privacy Act of 1974; System of Records

AGENCY: National Aeronautics and Space Administration (NASA).

ACTION: Rescindment of a system of records.

SUMMARY: The National Aeronautics and Space Administration is issuing public notice of its proposal to cancel its previously noticed system of records, Equal Opportunity Records/NASA 10EEOR. The records of this system are maintained for the purpose of counseling, investigating and adjudicating complaints of employment discrimination brought by applicants and current and former federal employees against NASA.

DATES: Submit comments within 30 calendar days from the date of this publication. The changes will take effect at the end of that period, if no adverse comments are received.

ADDRESSES: Patti F. Stockman, Privacy Act Officer, Office of the Chief Information Officer, Mary W. Jackson NASA Headquarters, Washington, DC 20546-0001, Washington, DC 20546-0001, (202) 358-4787, NASA-PAOfficer@nasa.gov.

FOR FURTHER INFORMATION CONTACT: NASA Privacy Act Officer, Patti F. Stockman, (202) 358-4787, NASA-PAOfficer@nasa.gov.

SUPPLEMENTARY INFORMATION: NASA has determined that that this system notice is duplicative of the government wide system of records notice, EEOC/GOVT1, Equal Employment Opportunity in the Federal Government Complaint and Appeals Records. NASA will continue to maintain these records, but they are properly and adequately covered by EEOC/GOVT1.

SYSTEM NAME AND NUMBER:

Equal Opportunity (EO) Records, NASA 10EEOR.

HISTORY:

(15-117, 80 FR 246, pp. 79947-79949)

Cheryl Parker,
Federal Register Liaison Officer.

[FR Doc. 2021-27176 Filed 12-15-21; 8:45 am]

BILLING CODE 7510-13-P